DEPARTMENT OF THE INTERIOR

Bureau of Indian Affairs

Indian Gaming

AGENCY: Bureau of Indian Affairs, Interior.

ACTION: Notice of amendment to Approved Tribal-State Compact

SUMMARY: This notice publishes the Approval of the Eighth Amendment to the Tribal/State Compact for Class III Gaming between the Tulalip Tribe of Washington and the State of Washington.

DATES: Effective Date: October 8, 2009.

FOR FURTHER INFORMATION CONTACT: Paula L. Hart, Acting Director, Office of Indian Gaming, Office of the Deputy Assistant Secretary—Policy and Economic Development, Washington, DC 20240, (202) 219-4066.

SUPPLEMENTARY INFORMATION: Pursuant to section 11 of the Indian Gaming Regulatory Act of 1988 (IGRA), Public Law 100-497, 25 U.S.C. 2710, the Secretary of the Interior shall publish in the Federal Register notice of the approved Tribal-State Compact Amendment for the purpose of engaging in Class III gaming activities on Indian lands. The Amendment clarifies and generally simplifies what kind of entities must be licensed by the State of Washington. The Amendment also significantly modifies the dispute resolution processes to a more collaborative model providing a prompt “meet and confer” requirement, then mediation, and finally, as a last resort, either arbitration or litigation. The Tribe's limited waiver of sovereign immunity is clarified and narrowed to include only disputes arising under the compact. The State similarly waives its sovereign immunity, including a specific waiver of the State's Eleventh Amendment immunity from suit for the purposes of enforcing the compact. Finally, the proposed amendment changes the annual licensing requirements from annually to every three years.

Dated: September 30, 2009.
Larry Echo Hawk,
Assistant Secretary—Indian Affairs.

[FR Doc. E9-24300 Filed 10-7-09; 8:45 am]

BILLING CODE 4310-4N-P